DEPARTMENT OF TRANSPORTATION

Federal Aviation Administration

14 CFR Part 39

[Docket No. 99-NE-21-AD; Amendment 39-12168; AD 2001-07-03]

RIN 2120-AA64

Airworthiness Directives; Hartzell Propeller Inc. Y-shank Series Propellers; Correction

AGENCY: Federal Aviation Administration, DOT.

ACTION: Final rule; correction.

SUMMARY: This document makes a correction to Airworthiness Directive (AD) 2001-07-03 applicable to Hartzell Propeller Inc. Y-shank series propellers that was published in the Federal Register on April 4, 2001 (66 FR 17806). The words “and those” in the first sentence of the Applicability paragraph of the regulatory text are incorrect and must be deleted. This document corrects the Applicability paragraph. In all other respects, the original document remains the same.

DATES: Effective on June 4, 2001.

FOR FURTHER INFORMATION CONTACT: Tomaso DiPaolo, Aerospace Engineer, Chicago Aircraft Certification Office, FAA, Small Airplane Directorate, 2300 East Devon Avenue, Des Plaines, IL 60018; telephone (847) 294-7031, fax (847) 294-7834.

SUPPLEMENTARY INFORMATION: A final rule airworthiness directive applicable to Hartzell Propeller Inc. Y-shank series propellers (FR Doc. 01-8066) was published in the Federal Register on April 4, 2001 (66 FR 17806). The following correction is needed:

§ 39.13 [Corrected]

On page 17808, in the third column, in the Applicability Section of the regulatory text of AD 2001-07-03, in the first paragraph, beginning in the first line, “This AD is applicable to all Hartzell Propeller Inc. Y-shank series propellers and those identified by hub serial numbers (SN's) in Table 1 of this airworthiness directive (AD).” is corrected to read “ This AD is applicable to all Hartzell Propeller Inc. Y-shank series propellers identified by hub serial numbers (SN's) in Table 1 of this airworthiness directive (AD).”.

Issued in Burlington, MA, on May 15, 2001.
Diane S. Romanosky,
Acting Manager, Engine and Propeller Directorate, Aircraft Certification Service.

[FR Doc. 01-12943 Filed 5-23-01; 8:45 am]

BILLING CODE 4910-13-U